DEPARTMENT OF COMMERCE

International Trade Administration

[A-570-601]

Tapered Roller Bearings and Parts Thereof, Finished and Unfinished, from the People's Republic of China: Final Results of the Antidumping Duty Administrative Review; 2013-2014

AGENCY: Enforcement and Compliance, International Trade Administration, Department of Commerce.

SUMMARY: On July 7, 2015, the Department of Commerce (the Department) published the preliminary results of the 27th administrative review of the antidumping duty order on tapered roller bearings and parts thereof, finished and unfinished (TRBs), from the People's Republic of China (PRC).¹ The period of review (POR) is June 1, 2013, through May 31, 2014. Based on our analysis of the comments received, we made certain changes in the margin calculations. Therefore, the final results differ from the preliminary results. The final weighted-average dumping margins for the reviewed firms are listed below in the section entitled “Final Results of the Review.”

¹ See Tapered Roller Bearings and Parts Thereof, Finished and Unfinished, From the People's Republic of China: Preliminary Results of Antidumping Duty Administrative Review; 2013-2014, 80 FR 38665 (July 7, 2015) (Preliminary Results), and accompanying Preliminary Decision Memorandum.

DATES: Effective Date: January 12, 2016.

FOR FURTHER INFORMATION CONTACT: Blaine Wiltse, AD/CVD Operations, Office II, Enforcement and Compliance, International Trade Administration, U.S. Department of Commerce, 14th Street and Constitution Avenue NW., Washington, DC 20230; telephone: (202) 482-6345.

Background

These final results of administrative review cover four exporters of the subject merchandise, Changshan Peer Bearing Co., Ltd. and Peer Bearing Company (collectively, CPZ/SKF), Ningbo Xinglun Bearings Import & Export Co., Ltd. (Xinglun), Xinchang Kaiyuan Automotive Bearing Co., Ltd. (Kaiyuan), and Yantai CMC Bearing Co. Ltd. (Yantai CMC). The Department selected as CPZ/SKF and Yantai CMC as mandatory respondents for individual examination; however, we subsequently found that Yantai CMC does not qualify for a separate rate.² Additionally, in the Preliminary Results, we determined, in accordance with 19 CFR 351.401(f) to treat affiliated producers, CPZ/SKF and Shanghai General Bearing Co., Ltd. (SGBC) as a single entity (collectively, CPZ/SGBC).

² See Preliminary Results, 80 FR at 38666.

On July 7, 2015, the Department published the Preliminary Results. In August 2015, we received case and rebuttal briefs from the Timken Company (the petitioner) and CPZ/SKF. We also received a case brief from Yantai CMC. In September 2015, the Department held a public hearing at the request of the petitioner.

The Department conducted this review in accordance with section 751 of the Tariff Act of 1930, as amended (the Act).

Scope of the Order

The merchandise covered by the Order ³ includes tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the Order is dispositive.⁴

³ See Notice of Antidumping Duty Order; Tapered Roller Bearings and Parts Thereof, Finished or Unfinished, From the People's Republic of China, 52 FR 22667 (June 15, 1987) (Order).

⁴ For a complete description of the scope of the Order, see the “Issues and Decision Memorandum for the Antidumping Duty Administrative Review (2013-2014): Tapered Roller Bearings and Parts Thereof, Finished and Unfinished, from the People's Republic of China,” from Christian Marsh, Deputy Assistant Secretary for Antidumping and Countervailing Duty Operations, to Paul Piquado, Assistant Secretary for Antidumping and Countervailing Duty Operations, dated concurrently with, and adopted by, this notice (Issues and Decision Memo).

Separate Rates

In the Preliminary Results, we found that evidence provided by CPZ/SKF, Kaiyuan, and Xinglun supported finding an absence of both de jure and de facto government control, and, therefore, we preliminarily granted a separate rate to each of these companies.⁵ We received no information since the issuance of the Preliminary Results that provides a basis for reconsidering these determinations. Therefore, for the final results, we continue to find that CPZ/SKF, Kaiyuan, and Xinglun are eligible for separate rates.

⁵ See Preliminary Results, 80 FR at 38665, and accompanying Preliminary Decision Memorandum at 4-7.

With respect to Yantai CMC, however, we determined in the Preliminary Results that this company failed to demonstrate an absence of de facto government control, and, thus, the Department did not grant Yantai CMC a separate rate. For these final results, we continue to find, based on record evidence, that Yantai CMC failed to demonstrate an absence of de facto government control. Accordingly, we are not granting Yantai CMC a separate rate. For further discussion of this issue, see Comments 6 through 9 of the accompanying Issues and Decision Memo.

Weighted-Average Dumping Margin for the Non-Examined, Separate-Rate Companies

For the exporters subject to a review that are determined to be eligible for a separate rate, but are not selected as individually examined respondents, the Department generally weight averages the rates calculated for the individually-examined respondents, excluding any rates that are zero, de minimis, or based entirely on facts available.⁶ In this administrative review, the only individually-examined company for which we calculated a margin is CPZ/SKF, which is receiving a separate rate calculated from its own sales and production data. To determine a rate for the unselected separate rate companies, we find it appropriate to use the margin calculated for CPZ/SKF, which was also found to be separate from the PRC-wide entity with respect to its export activities, and which has been assigned a rate that is not zero or de minimis nor based entirely on facts available. Therefore, we are assigning CPZ/SKF's calculated margin as the rate assigned to non-examined entities which demonstrated their eligibility for a separate rate.⁷

⁶ See, e.g., Wooden Bedroom Furniture From the People's Republic of China: Preliminary Results of Antidumping Duty Administrative Review, Preliminary Results of New Shipper Review and Partial Rescission of Administrative Review, 73 FR 8273, 8279 (February 13, 2008), unchanged in Wooden Bedroom Furniture from the People's Republic of China: Final Results of Antidumping Duty Administrative Review and New Shipper Review, 73 FR 49162 (August 20, 2008).

⁷ We note that this represents a change from the Preliminary Results, where we preliminarily assigned separate rate companies the separate rate from the immediately preceding administrative review. This is a function of the fact that CPZ/SKF's rate has changed from zero to above de minimis in these final results. As a result, using section 735(c)(5)(A) of the Act as guidance, we revised our methodology for these final results.

Analysis of Comments Received

All issues raised in the case and rebuttal briefs by parties to this administrative review are addressed in the Issues and Decision Memo. A list of the issues which parties raised and to which we respond in the Issues and Decision Memo is attached to this notice as an Appendix. The Issues and Decision Memo is a public document and is on file electronically via Enforcement and Compliance's Antidumping and Countervailing Duty Centralized Electronic Service System (ACCESS). ACCESS is available to registered users at https://access.trade.gov, and it is available to all parties in the Central Records Unit, room B8024 of the main Department of Commerce building. In addition, a complete version of the Issues and Decision Memo can be accessed directly at http://trade.gov/enforcement. The signed Issues and Decision Memo and the electronic version of the Issues and Decision Memo are identical in content.

Changes Since the Preliminary Results

Based on our analysis of the comments received, we made changes in the margin calculation for CPZ/SKF. These changes are discussed in the relevant sections of the Issues and Decision Memo.

Period of Review

The POR is June 1, 2013, through May 31, 2014.

Final Results of the Review

Because Yantai CMC did not demonstrate that it is entitled to a separate rate, the Department finds Yantai CMC to be part of the PRC-wide entity. No party requested a review of the PRC-wide entity. Therefore, we did not conduct a review of the PRC-wide entity and the entity's rate is not subject to change.⁸ The rate previously established for the PRC-wide entity is 92.84 percent.

⁸ See Antidumping Proceedings: Announcement of Change in Department Practice for Respondent Selection in Antidumping Duty Proceedings and Conditional Review of the Nonmarket Economy Entity in NME Antidumping Duty Proceedings, 78 FR 65963, 65970 (November 4, 2013).

Additionally, we are assigning the following weighted-average dumping margins to the firms listed below for the period June 1, 2013, through May 31, 2014:

Exporters | Weighted-average dumping margin (percent)
Changshan Peer Bearing Co., Ltd./Shanghai General Bearing Co., Ltd. | 0.91
Ningbo Xinglun Bearings Import & Export Co., Ltd.* | 0.91
Xinchang Kaiyuan Automotive Bearing Co., Ltd.* | 0.91
* This company demonstrated eligibility for a separate rate in this administrative review.

Disclosure

We intend to disclose the calculations performed within five days of the date of publication of this notice to parties in this proceeding in accordance with 19 CFR 351.224(b).

Assessment Rates

Pursuant to section 751(a)(2)(C) of the Act, and 19 CFR 351.212(b)(1), the Department has determined, and Customs and Border Protection (CBP) shall assess, antidumping duties on all appropriate entries of subject merchandise, where applicable, in accordance with the final results of this review. The Department intends to issue assessment instructions to CBP 15 days after the date of publication of these final results of review.

Where an importer- (or customer-) specific ad valorem or per-unit rate is greater than de minimis, the Department will instruct CBP to collect the appropriate duties at the time of liquidation.⁹

⁹ See Antidumping Proceedings: Calculation of the Weighted-Average Dumping Margin and Assessment Rate in Certain Antidumping Duty Proceedings; Final Modification, 77 FR 8101, 8103 (February 14, 2012).

For entries of subject merchandise exported by CPZ/SKF we calculated an ad valorem rate by dividing the total amount of dumping calculated for the importer's examined sales by the total entered values associated with those sales, in accordance with 19 CFR 351.212(b)(1). We will instruct CBP to assess antidumping duties on all appropriate entries covered by this review.

For Yantai CMC, because the Department determined that this company did not qualify for a separate rate, we will instruct CBP to assess dumping duties on the company's entries of subject merchandise at the rate of 92.84 percent.

For Kaiyuan and Xinglun, the companies not selected for individual examination, the ad valorem assessment rate will be equal to the weighted-average dumping margin assigned above in the final results of review.

For entries that were not reported in the U.S. sales database submitted by an exporter individually examined during this review, the Department will instruct CBP to liquidate such entries at the PRC-wide rate. Additionally, if the Department determines that an exporter under review had no shipments of the subject merchandise, any suspended entries that entered under that exporter's case number will be liquidated at the PRC-wide rate (i.e., 92.84 percent).¹⁰

¹⁰ See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review (except, if the rate is de minimis, then a cash deposit rate of zero will be established for that company); (2) for previously investigated or reviewed PRC and non-PRC exporters not listed above that currently have separate a rate, the cash deposit rate will continue to be the exporter-specific rate published for the most recently completed segment of this proceeding where the exporter received that separate rate; (3) for all PRC exporters of subject merchandise that have not been found to be entitled to a separate rate, the cash deposit rate will be the rate for the PRC-wide entity, 92.84 percent; and (4) for all non-PRC exporters of subject merchandise which have not received their own separate rate, the cash deposit rate will be the rate applicable to the PRC exporter that supplied that non-PRC exporter.

These deposit requirements, when imposed, shall remain in effect until further notice.

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i)(1) of the Act.

Dated: January 4, 2016.
Paul Piquado,
Assistant Secretary for Enforcement and Compliance.

Appendix

List of Topics Discussed in the Issues and Decision Memo

CPZ/SKF

1. Whether to Collapse CPZ/SKF and Shanghai General Bearing Co., Ltd.

2. Calculation of Steel Bar Transportation Cost

3. Surrogate Value (SV) for Truck Freight

4. SV for Labor Rate

5. Unreported Steel Producer Distances to Subcontractors

Yantai CMC

6. The Department Should Discontinue its Separate Rate Practice

7. The Denial of Separate Rate Status for Yantai CMC is not Supported by Record Evidence

8. Assigning Yantai CMC the PRC-Wide Rate is Contrary to Law

9. The Department's Separate Rate Tests and Resulting Use of AFA are Inconsistent with the World Trade Organization Agreements

[FR Doc. 2016-00432 Filed 1-11-16; 8:45 am]

BILLING CODE 3510-DS-P